DEPARTMENT OF COMMERCE

National Oceanic and Atmospheric Administration

50 CFR Part 622

[Docket No. 110218148-1169-01]

RIN 0648-BA83

Fisheries of the Caribbean, Gulf of Mexico, and South Atlantic; Golden Crab Fishery Off the Southern Atlantic States; Control Date

AGENCY: National Marine Fisheries Service (NMFS), National Oceanic and Atmospheric Administration (NOAA), Commerce.

ACTION: Advanced notice of proposed rulemaking; consideration of a control date.

SUMMARY: NMFS announces that it is establishing a control date of December 7, 2010, to control future access to the golden crab fishery operating in the exclusive economic zone (EEZ) of the South Atlantic. If changes to the management regime are developed and implemented under the Magnuson-Stevens Fishery Conservation and Management Act (Magnuson-Stevens Act), a control date could be used to limit the number of participants in the fishery. This announcement is intended, in part, to promote awareness of the potential eligibility criteria for future access so as to discourage speculative entry into the fishery while the South Atlantic Fishery Management Council (Council) and NMFS consider whether and how access to the golden crab fishery should be controlled.

DATES: Written comments must be received on or before 5 p.m., local time, April 20, 2011.

ADDRESSES: You may submit comments, identified by 0648-BA83, by any one of the following methods:

• Electronic Submissions: Submit all electronic public comments via the Federal eRulemaking Portal http://www.regulations.gov. Follow the instructions for submitting comments.

• Fax: Attn: Karla Gore 727-824-5305.

• Mail: Karla Gore, NMFS Southeast Regional Office, Sustainable Fisheries Division, 263 13th Avenue South, St. Petersburg, FL 33701.

Instructions: All comments received are a part of the public record and will generally be posted to http://www.regulations.gov without change. All Personal Identifying Information (for example, name, address, etc.) voluntarily submitted by the commenter may be publicly accessible. Do not submit Confidential Business Information or otherwise sensitive or protected information.

To submit comments through the Federal e-rulemaking portal http://www.regulations.gov, enter “NOAA-NMFS-2011-0044” in the keyword search, then check the box labeled “Select to find documents accepting comments or submissions”, then select “Send a comment or submission”. NMFS will accept anonymous comments (enter N/A in the required fields if you wish to remain anonymous). You may submit attachments to electronic comments in Microsoft Word, Excel, WordPerfect, or Adobe PDF file formats only.

FOR FURTHER INFORMATION CONTACT: Kim Iverson, Public Information Officer, South Atlantic Fishery Management Council; toll free 1-866-SAFMC-10 or 843-571-4366; kim.iverson@safmc.net.

SUPPLEMENTARY INFORMATION: At their December 2010 meeting, the Council recommended a control date of December 7, 2010, for the golden crab fishery. The Council manages golden crab under the Fishery Management Plan for the Golden Crab Fishery of the South Atlantic Region. The control date would apply to persons who are contemplating entering the golden crab fishery in the EEZ of the South Atlantic region. If adopted, a control date would be established for the golden crab fishery. The Council requested that this control date be published in the Federal Register to notify fishermen that if they enter such a fishery after December 7, 2010, they may not be assured of future access if the Council and/or NMFS decide to limit entry or impose other measures to manage these fisheries.

Establishment of the control date would allow the Council to evaluate the level of participation in the subject fishery and address any level of overcapacity. Control dates are intended to discourage speculative entry into a fishery, as new entrants entering the fishery after the control date are forewarned that they are not guaranteed future participation in the fishery.

Establishment of this control date does not commit the Council or NMFS to any particular management regime or criteria for entry into the golden crab fishery. Fishermen are not guaranteed future participation in the fishery regardless of their level of participation before or after the control date. The Council may recommend a different control date or it may recommend a management regime that does not involve a control date. Other criteria, such as documentation of landings or fishing effort, may be used to determine eligibility for participation in a limited access fishery. The Council and/or NMFS also may choose to take no further action to control entry or access to the fisheries, in which case the control date may be rescinded. Any action by the Council will be taken pursuant to the requirements for fishery management plan and amendment development established under the Magnuson-Stevens Act.

This notification also gives the public notice that interested participants should locate and preserve records that substantiate and verify their participation in the golden crab fishery in the South Atlantic EEZ.

Authority: 16 U.S.C. 1801 et seq.

Dated: March 16, 2011.
John Oliver,
Deputy Assistant Administrator for Operations, National Marine Fisheries Service.

[FR Doc. 2011-6583 Filed 3-18-11; 8:45 am]

BILLING CODE 3510-22-P